DEPARTMENT OF TRANSPORTATION

Federal Aviation Administration

14 CFR Part 39

[Docket No. FAA-2015-1275; Directorate Identifier 2014-NM-070-AD]

RIN 2120-AA64

Airworthiness Directives; Airbus Airplanes

AGENCY: Federal Aviation Administration (FAA), DOT.

ACTION: Notice of proposed rulemaking (NPRM).

SUMMARY: We propose to supersede Airworthiness Directive (AD) 2004-14-09, for certain Airbus Model A320-211, -212, and -231 airplanes. AD 2004-14-09 currently requires repetitive inspections for fatigue cracking of the lower surface panel on the wing center box, and repair if necessary; and modification of the lower surface panel on the wing center box, which constitutes terminating action for the repetitive inspections. Since we issued AD 2004-14-09, we have determined that, based on the average flight duration, the average weight of fuel at landing is higher than that defined for the analysis of the fatigue-related tasks; and that shot peening might have been improperly done on the chromic acid anodizing (CAA) protection, which would adversely affect fatigue crack protection. This proposed AD would reduce the compliance times for the repetitive inspections, and would require a repair for certain airplanes. We are proposing this AD to detect and correct fatigue cracking of the lower surface panel on the wing center box, which could result in reduced structural integrity of the airplane.

DATES: We must receive comments on this proposed AD by June 22, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-1275; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2015-1275; Directorate Identifier 2014-NM-070-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 29, 2004, we issued AD 2004-14-09, Amendment 39-13718 (69 FR 41398, July 9, 2004). AD 2004-14-09 requires actions intended to address an unsafe condition on the products listed above. AD 2004-14-09 superseded AD 98-22-05, Amendment 39-10851 (63 FR 56542, October 22, 1998).

Since we issued AD 2004-14-09, Amendment 39-13718 (69 FR 41398, July 9, 2004), we have determined that, based on the average flight duration, the average weight of fuel at landing is higher than that defined for the analysis of the fatigue-related tasks; and that shot peening might have been improperly done on the CAA protection, which would adversely affect fatigue crack protection.

The European Aviation Safety Agency (EASA), which is the Technical Agent for the Member States of the European Union, has issued EASA Airworthiness Directive 2014-0065, dated March 14, 2014 (referred to after this as the Mandatory Continuing Airworthiness Information, or “the MCAI”), to correct an unsafe condition on certain Model A320-211, -212, and -231 airplanes. The MCAI states:

During center fuselage certification full scale test, damage was found in the center wing box (CWB) lower surface panel.

This condition, if not detected and corrected, could affect the structural integrity of the CWB.

To prevent such damage, Airbus developed mod 22418 which consists in shot-peening of the lower panel in the related area. Mod 22418 has been embodied in production from aeroplane [manufacturer serial number] (MSN) 0359. For unmodified in-service aeroplanes, Airbus issued Service Bulletin (SB) A320-57-1082 to introduce repetitive High Frequency Eddy Current (HFEC) inspections on the external face of the center wing box lower panel between Frame (FR) 41 and FR42 to detect damage.

DGAC [Direction Générale de l'Aviation Civile] France issued AD 2002-342 [http://ad.easa.europa.eu/blob/20023420tb_superseded.pdf/AD_F-2002-342_1] to require these inspections and, depending on findings, applicable corrective action(s). Airbus also issued SB A320-57-1043 as an optional terminating action for the repetitive inspections required by DGAC France AD 2002-342.

Since that [DGAC] AD was issued, the results of a survey, carried out on the A320 fleet, highlighted some differences between the mission parameters, mainly on the weight of fuel at landing and on the average flight duration, which are higher than those defined for the analysis of the fatigue related tasks.

These findings have led to an adjustment of the A320 reference fatigue mission. Consequently, the threshold and intervals of these repetitive inspections have been revised and a new threshold figure expressed in flight hours (FH) has been established.

In addition, it has been identified that, on aeroplanes that have been modified in accordance with Airbus SB A320-57-1043 (Airbus mod 22418) at Revision 05 or an earlier Revision, the shot peening may have been improperly done on the Chromic Acid Anodizing (CAA) protection, which has no fatigue benefit effect. Therefore, the inspections per Airbus SB A320-57-1082 are required again on these aeroplanes.

Consequently, new shot-peening procedures with proper CAA protection removal instructions have been developed and their embodiment through Airbus SB A320-57-1043 Revision 06 cancels the repetitive inspections per Airbus SB A320-57-1082, as required by DGAC France AD 2002-342.

For the reasons described above, this new [EASA] AD retains the requirements of DGAC France AD 2002-342, which is superseded, but requires these actions to be accomplished within reduced thresholds and intervals. In addition, the optional terminating action provision (SB A320-57-1043) is amended by including reference to the SB at Revision 06.

The optional terminating action described in Airbus Service Bulletin A320-57-1043, Revision 06, dated December 5, 2013, is accomplishing shot peening in the radius of the milling step between stiffeners 13 and 14 near the fuel pump aperture.

You may examine the MCAI in the AD docket on the Internet at http://www.regulations.gov by searching for and locating Docket No. FAA-2015-1275.

Related Service Information Under 1 CFR Part 51

Airbus has issued Service Bulletin A320-57-1043, Revision 06, dated December 5, 2013. This service bulletin describes procedures for shot peening in the radius of the milling step between stiffeners 13 and 14 near the fuel pump aperture.

Airbus has also issued Service Bulletin A320-57-1082, Revision 04, dated December 5, 2013. This service bulletin describes procedures for inspections for cracking of the lower surface panel on the wing center box.

The actions described in this service information are intended to correct the unsafe condition identified in the MCAI. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 46 airplanes of U.S. registry.

The actions that are required by AD 2004-14-09, Amendment 39-13718 (69 FR 41398, July 9, 2004), and retained in this proposed AD take about 25 work-hours per product, at an average labor rate of $85 per work-hour. Based on these figures, the estimated cost of the actions that were required by AD 2004-14-09 is $2,125 per product.

The new requirements of this proposed AD would add no additional economic burden.

We have received no definitive data that would enable us to provide cost estimates for the on-condition actions specified in this proposed AD. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-14-09, Amendment 39-13718 (69 FR 41398, July 9, 2004), and adding the following new AD:

Airbus: Docket No. FAA-2014-1275; Directorate Identifier 2014-NM-070-AD.

(a) Comments Due Date

We must receive comments by June 22, 2015.

(b) Affected ADs

This AD replaces AD 2004-14-09, Amendment 39-13718 (69 FR 41398, July 9, 2004).

(c) Applicability

This AD applies to Airbus Model A320-211, -212, and -231 airplanes, certificated in any category, all manufacturer serial numbers, except those on which Airbus Modification 22418 has been embodied in production.

(d) Subject

Air Transport Association (ATA) of America Code 57, Wings.

(e) Reason

This AD was prompted by a determination that, based on the average flight duration, the average weight of fuel at landing is higher than that defined for the analysis of the fatigue-related tasks; and that shot peening might have been improperly done on the chromic acid anodizing (CAA) protection, which would adversely affect fatigue crack protection. We are issuing this AD to detect and correct fatigue cracking of the lower surface panel on the wing center box (WCB), which could result in reduced structural integrity of the airplane.

(f) Compliance

Comply with this AD within the compliance times specified, unless already done.

(g) Retained Repetitive Inspections, With No Changes

This paragraph restates the requirements of paragraph (a) of AD 2004-14-09, Amendment 39-13718 (69 FR 41398, July 9, 2004), with no changes. Except as provided by paragraph (k) of this AD: Prior to the accumulation of 20,000 total flight cycles, or within 60 days after November 27, 1998 (the effective date of AD 98-22-05, Amendment 39-10851 (63 FR 56542, October 22, 1998)), whichever occurs later, perform a high frequency eddy current (HFEC) inspection to detect fatigue cracking of the lower surface panel on the WCB, in accordance with Airbus Service Bulletin A320-57-1082, Revision 01, dated December 10, 1997; or Revision 03, dated April 30, 2002. Repeat the HFEC inspection thereafter at intervals not to exceed 7,500 flight cycles until the actions required by paragraph (i) of this AD are accomplished.

(h) Retained Repair, With No Changes

This paragraph restates the requirements of paragraph (b) of AD 2004-14-09, Amendment 39-13718 (69 FR 41398, July 9, 2004), with no changes. Except as provided by paragraph (j) of this AD, if any cracking is detected during any inspection required by paragraph (g) of this AD: Prior to further flight, repair in accordance with Airbus Service Bulletin A320-57-1082, Revision 01, dated December 10, 1997; or Revision 03, dated April 30, 2002. Accomplishment of the repair constitutes terminating action for the repetitive inspections required by paragraph (g) of this AD for the repaired area only.

(i) Retained Inspection/Modification/Repair, With Terminating Action

This paragraph restates the requirements of paragraph (c) of AD 2004-14-09, Amendment 39-13718 (69 FR 41398, July 9, 2004), with terminating action provided. Prior to the accumulation of 25,000 total flight cycles, or within 60 days after November 27, 1998 (the effective date of AD 98-22-05, Amendment 39-10851 (63 FR 56542, October 22, 1998)), whichever occurs later: Perform an HFEC inspection to detect fatigue cracking of the lower surface panel on the WCB, in accordance with Airbus Service Bulletin A320-57-1082, Revision 01, dated December 10, 1997; or Revision 03, dated April 30, 2002. Accomplishment of the initial inspection required by paragraph (p) of this AD constitutes terminating action for the inspection requirements of this paragraph.

(1) If no cracking is detected: Prior to further flight, modify the lower surface panel on the WCB, in accordance with Airbus Service Bulletin A320-57-1043, Revision 02, dated May 14, 1997; or Revision 05, dated April 30, 2002. Accomplishment of the modification constitutes terminating action for the requirements of paragraph (g) of this AD.

(2) Except as provided by paragraph (j) of this AD: If any cracking is detected, prior to further flight, repair in accordance with Airbus Service Bulletin A320-57-1082, Revision 01, dated December 10, 1997, or Revision 03, dated April 30, 2002; and modify any uncracked area, in accordance with Airbus Service Bulletin A320-57-1043, Revision 02, dated May 14, 1997, or Revision 05, dated April 30, 2002. Accomplishment of the repair of cracked area(s) and modification of uncracked area(s) constitutes terminating action for the requirements of paragraph (g) of this AD.

(j) Retained Service Bulletin Exception, With No Changes

This paragraph restates the requirements of paragraph (d) of AD 2004-14-09, Amendment 39-13718 (69 FR 41398, July 9, 2004), with no changes. If any cracking is detected during any inspection required by paragraph (h) or (i)(2) of this AD, and the applicable service bulletin specifies to contact Airbus for an appropriate action: Prior to further flight, repair using a method approved by the Manager, International Branch, ANM-116, FAA, Transport Airplane Directorate; or the Direction Générale de l'Aviation Civile (DGAC) (or its delegated agent).

(k) Retained Provision for Certain Inspection Exception, With No Changes

This paragraph restates the provision of paragraph (e) of AD 2004-14-09, Amendment 39-13718 (69 FR 41398, July 9, 2004), with no changes. The actions required by paragraph (g) of this AD are not required to be accomplished if the requirements of paragraph (i) of this AD are accomplished at the time specified in paragraph (g) of this AD.

(l) Retained Initial Inspection, With Terminating Action

This paragraph restates the requirements of paragraph (f) of AD 2004-14-09, Amendment 39-13718 (69 FR 41398, July 9, 2004), with terminating action provided. For airplanes on which neither the inspection required by paragraph (g) of this AD, nor the modification required by paragraph (i)(1) of this AD has been done before August 13, 2004 (the effective date of AD 2004-14-09): Perform an HFEC inspection to detect fatigue cracking of the lower surface panel on the WCB, in accordance with Airbus Service Bulletin A320-57-1082, Revision 01, dated December 10, 1997; or Revision 03, dated April 30, 2002; at the later of the times specified in paragraphs (l)(1) and (l)(2) of this AD. Accomplishment of the inspection required by this paragraph terminates the requirements of paragraph (g) of this AD. Accomplishment of the initial inspection required by paragraph (p) of this AD terminates the inspection requirements of this paragraph.

(1) Prior to the accumulation of 13,200 total flight cycles or 39,700 total flight hours, whichever is first.

(2) Prior to the accumulation of 20,000 total flight cycles, or within 3,500 flight cycles after August 13, 2004 (the effective date of AD 2004-14-09, Amendment 39-13718 (69 FR 41398, July 9, 2004)), whichever is later.

(m) Retained Repetitive Inspections, With No Changes

This paragraph restates the requirements of paragraph (g) of AD 2004-14-09, Amendment 39-13718 (69 FR 41398, July 9, 2004), with no changes. If no cracking is detected during the inspection required by paragraph (g) or (l) of this AD: Repeat the inspection required by paragraph (l) of this AD at the applicable time specified in paragraph (m)(1) or (m)(2) of this AD. Accomplishment of the modification required by paragraph (i)(1) of this AD terminates the requirements of this paragraph.

(1) For airplanes on which the inspections required by paragraph (g) of this AD have been initiated before August 13, 2004 (the effective date of AD 2004-14-09, Amendment 39-13718 (69 FR 41398, July 9, 2004)): Do the next inspection within 5,700 flight cycles after accomplishment of the last inspection, or within 1,800 flight cycles after August 13, 2004, whichever is later. Repeat the inspection thereafter at intervals not to exceed 5,700 flight cycles.

(2) For airplanes on which no inspection required by paragraph (g) of this AD has been done before August 13, 2004 (the effective date of AD 2004-14-09, Amendment 39-13718 (69 FR 41398, July 9, 2004)): Do the next inspection within 5,700 flight cycles after accomplishment of the inspection required by paragraph (l) of this AD. Repeat the inspection thereafter at intervals not to exceed 5,700 flight cycles.

(n) Retained Repair/Modification, With No Changes

This paragraph restates the requirements of paragraph (h) of AD 2004-14-09, Amendment 39-13718 (69 FR 41398, July 9, 2004), with no changes. If any cracking is detected during any inspection required by paragraph (l) or (m) of this AD, prior to further flight, repair in accordance with Airbus Service Bulletin A320-57-1082, Revision 01, dated December 10, 1997, or Revision 03, dated April 30, 2002; and modify any uncracked area, in accordance with Airbus Service Bulletin A320-57-1043, Revision 02, dated May 14, 1997, or Revision 05, dated April 30, 2002. Where Airbus Service Bulletin A320-57-1082 specifies to contact Airbus for an appropriate repair action: Prior to further flight, repair using a method approved by the Manager, International Branch, ANM-116, FAA, Transport Airplane Directorate; or the DGAC (or its delegated agent). Accomplishment of the repair of cracked area(s) and modification of uncracked area(s) constitutes terminating action for the requirements of paragraphs (g) through (n) of this AD.

(o) New Requirement of This AD: Repair of Certain Airplanes

For airplanes on which the actions described in Airbus Service Bulletin A320-57-1043 have not been accomplished, and on which a repair has been accomplished, as described in Airbus Service Bulletin A320-57-1082, dated October 31, 1996; Revision 01, dated December 10, 1997; Revision 02, dated July 26, 1999; or Revision 03, dated April 30, 2002: Within 30 days after the effective date of this AD, repair using a method approved by the Manager, International Branch, ANM-116, Transport Airplane Directorate, FAA; the European Aviation Safety Agency (EASA); or Airbus's EASA design organization approval (DOA).

(p) New Requirement of This AD: Repetitive WCB Inspections

At the applicable time specified in paragraphs (p)(1) and (p)(2) of this AD: Do an HFEC inspection for cracking of the lower surface panel on the WCB, in accordance with the Accomplishment Instructions of Airbus Service Bulletin A320-57-1082, Revision 04, dated December 5, 2013. Repeat the inspection of the lower surface panel on the WCB thereafter at intervals not to exceed 7,200 flight cycles or 14,400 flight hours, whichever occurs first. Accomplishment of the initial inspection required by this paragraph terminates the inspections required by paragraphs (g), (i), and (l) of this AD.

(1) For airplanes on which the actions described in Airbus Service Bulletin A320-57-1043 have not been done: At the later of the times specified in paragraphs (p)(1)(i) and (p)(1)(ii) of this AD.

(i) Before the accumulation of 20,700 flight cycles or 41,400 flight hours, whichever occurs first since first flight of the airplane.

(ii) Within 7,200 flight cycles or 14,400 flight hours, whichever occurs first after doing the most recent inspection as specified in Airbus Service Bulletin A320-57-1082, dated October 31, 1996; Revision 01, dated December 10, 1997; Revision 02, dated July 26, 1999; or Revision 03, dated April 30, 2002.

(2) For airplanes on which the actions specified in Airbus Service Bulletin A320-57-1043, dated February 16, 1993; Revision 01, dated June 14, 1996; Revision 02, dated May 14, 1997; Revision 03, dated October 24, 1997; Revision 04, dated March 15, 1999; or Revision 05, dated April 30, 2002; have been done: At the latest of the times specified in paragraphs (p)(2)(i), (p)(2)(ii), and (p)(2)(iii) of this AD.

(i) Within 7,200 flight cycles or 14,400 flight hours, whichever occurs first since doing the actions specified in Airbus Service Bulletin A320-57-1043.

(ii) Within 3,750 flight cycles or 7,500 flight hours, whichever occurs first after July 31, 2012 (as described in Airbus Service Bulletin A320-57-1082, Revision 04, dated December 5, 2013).

(iii) Within 850 flight cycles or 1,700 flight hours, whichever occurs first after the effective date of this AD.

(q) New Requirement of This AD: Repair of WCB

If any crack is found during any inspection required by paragraph (p) of this AD: Before further flight, repair using a method approved by the Manager, International Branch, ANM-116, Transport Airplane Directorate, FAA; the EASA; or Airbus's EASA DOA.

(r) New Optional Terminating Action

Modification of an airplane, in accordance with the Accomplishment Instructions of Airbus Service Bulletin A320-57-1043, Revision 06, dated December 5, 2013, constitutes terminating action for the actions required by paragraph (p) of this AD.

(s) Credit for Previous Actions

This paragraph provides credit for applicable actions required by paragraphs (g) through (n) of this AD, if those actions were performed before the effective date of this AD using the applicable Airbus Service Information provided in paragraphs (s)(1) through (s)(8) of this AD.

(1) Airbus Service Bulletin A320-57-1043, dated February 16, 1993, which is not incorporated by reference in this AD.

(2) Airbus Service Bulletin A320-57-1043, Revision 01, dated June 14, 1996, which is not incorporated by reference in this AD.

(3) Airbus Service Bulletin A320-57-1043, Revision 02, dated May 14, 1997, which was incorporated by reference on November 27, 1998 (63 FR 56542, October 22, 1998).

(4) Airbus Service Bulletin A320-57-1043, Revision 03, dated October 24, 1997, which is not incorporated by reference in this AD.

(5) Airbus Service Bulletin A320-57-1043, Revision 04, dated May 15, 1999, which is not incorporated by reference in this AD.

(6) Airbus Service Bulletin A320-57-1082, Revision 01, dated December 10, 1997, which was incorporated by reference on November 27, 1998 (63 FR 56542, October 22, 1998).

(7) Airbus Service Bulletin A320-57-1082, Revision 02, dated July 26, 1999, which is not incorporated by reference in this AD.

(8) Airbus Service Bulletin A320-57-1082, Revision 03, dated April 30, 2002, which was incorporated by reference on August 13, 2004 (69 FR 41398, July 9, 2004).

(t) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(u) Related Information

(1) Refer to Mandatory Continuing Airworthiness Information (MCAI) EASA Airworthiness Directive 2014-0065, dated March 14, 2014, for related information. This MCAI may be found in the AD docket on the Internet at http://www.regulations.gov by searching for and locating Docket No. FAA-2014-1275.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on April 29, 2015.
Jeffrey E. Duven,
Manager, Transport Airplane Directorate, Aircraft Certification Service.

[FR Doc. 2015-10949 Filed 5-7-15; 8:45 am]

BILLING CODE 4910-13-P